NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 30, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Farm Service Agency (N1-145-05-1, 4 items, 4 temporary items). Records relating to tobacco programs involving loss assistance, direct payment, transition payment, and transition payment assessments. Included are eligibility and appeal records, payment registers, individual producer folders, payment certification, compliance records, base quota levels, proof of ownership, tobacco assessment statements, invoices, collection records, and appeals. The proposed disposition instructions are limited to paper records.

2. Department of Agriculture, Farm Service Agency (N1-145-05-2, 3 items, 3 temporary items). Records relating to emergency relief administered under the Crop Disaster Program and Disaster Assistance Program. The files include eligibility forms, reports, payment records, nonpayment and overpayment registers, crop information, and appeals. The proposed disposition instructions are limited to paper records.

3. Department of Agriculture, Food Safety and Inspection Service (N1-462-04-12, 1 item, 1 temporary item). Master file associated with an electronic information system used to test animal tissues for antimicrobial residues. The proposed disposition instructions are limited to electronic records.

4. Department of Homeland Security, National Protection Programs Directorate (N1-563-08-14, 1 item, 1 temporary item). Master file associated with an electronic information system containing asset and facility data used to conduct vulnerability and threat assessments. More complete information on facilities can be found in the United States Census Bureau Economic Census and business surveys which are scheduled for permanent retention.

5. Department of the Interior, United States Geological Survey (N1-57-08-1, 69 items, 68 temporary items). Records associated with such administrative housekeeping functions as administrative management and support, information resources management, telecommunications, security and protective services, and human capital management. Included are information technology files, computer security program support records, library management records, physical fitness program records, learning management system records, and natural science network program records. Proposed for permanent retention is the correspondence control system for correspondence received in and sent from the Office of the Director. The proposed disposition instructions are limited to electronic records for a number of items and to paper records for other items.

6. Department of Justice, Bureau of Alcohol, Tobacco, Firearms and Explosives (N1-436-08-11, 1 item, 1 temporary item). Master file for a discontinued electronic information system used to record threats against agents and persons of interest.

7. Department of Justice, Bureau of Alcohol, Tobacco, Firearms and Explosives (N1-436-08-13, 1 item, 1 temporary item). Master file of an electronic information system which tracks the hiring process for investigators and special agents.

8. Department of Justice, Criminal Division (N1-60-08-11, 2 items, 2 temporary items). Case files and an electronic tracking system for the International Prisoner Transfer Program. The program reviews requests for transfer of prisoners to serve sentences in their home countries under treaty agreements.

9. Department of Justice, Criminal Division (N1-60-08-15, 1 item, 1 temporary item). Master file for an electronic information system which tracks requests for agency authorization of electronic surveillance activities.

10. Department of Justice, Criminal Division (N1-60-08-16, 1 item, 1 temporary item). Master file for an electronic information system which tracks requests for witness immunity in criminal cases.

11. Department of Justice, Federal Bureau of Investigation (N1-65-08-7, 4 items, 4 temporary items). Master file, outputs, management reports, and related records of the Foreign Disclosure Data Capture System.

12. Department of Justice, Federal Bureau of Investigation (N1-65-08-9, 3 items, 3 temporary items). Master file and source documents of an electronic information system which documents terrorist watch list encounters.

13. Department of Justice, National Drug Intelligence Center (N1-523-08-1, 2 items, 2 temporary items). Master files and reports associated with the Real-time Analytical Intelligence Database (RAID), which is used for document exploitation and analysis.

14. Department of Justice, National Drug Intelligence Center (N1-523-08-2, 1 item, 1 temporary item). Schedule is an exception to General Records Schedule 18, Items 1-5. Records relating to the possession, handling, transfer, and destruction of classified information.

15. Department of State, Bureau of Diplomatic Security (N1-59-07-11, 19 items, 18 temporary items). Files documenting all aspects of cyber security programs, such as activities relating to cyber security threat assessment and response, computer security technical standards and guidelines, and cyber threat research and analysis. Included are inputs, master file, and outputs for an electronic computer security incident tracking system and an electronic computer security resource reporting system. Proposed for permanent retention are cyber threat research reports. The proposed disposition instructions are limited to paper records for certain items and to electronic records for other items.

16. Department of State, Bureau of Near East Affairs (N1-59-08-8, 5 items, 3 temporary items). Records maintained by the Office of Regional Affairs, including Congressional correspondence, munitions control case files, and National Disclosure Policy Committee records. Proposed for permanent retention are program files and records relating to the Multinational Force and Observers. The proposed disposition instructions are limited to paper records for permanent items.

17. Department of State, Overseas Buildings Operations (N1-59-08-2, 12 items, 11 temporary items). Project planning files and associated records documenting all aspects of long-range facility planning and project development activities, including capital construction projects, major renovations, and upgrade projects for overseas facilities. Included are the inputs, database, and outputs for an electronic project management tracking system. Proposed for permanent retention is the annual report on the Department's long-range overseas building plans. The proposed disposition instructions are limited to paper records for selected items, including the long-range overseas building plan, cost estimate project files, capital projects files, real property files, and travel vouchers, and to electronic records for the project management database.

18. Department of State, Overseas Buildings Operations (N1-59-08-5, 18 items, 4 temporary items). Dedication speeches, photographs documenting properties lacking historical significance and routine aspects of construction progress, and outputs from an electronic information system. Proposed for permanent retention are stewardship reports, bureau newsletters, photographs of culturally significant properties, representational properties, and construction progress for historically significant buildings, and the master file, database index, and documentation for the digital media photo library. The proposed disposition instructions are limited to paper records for stewardship reports and bureau newsletters, and to electronic records for digital media photo library records.

19. Department of Transportation, Federal Highway Administration (N1-406-08-3, 7 items, 7 temporary items). Records relating to programs of the Office of Professional and Corporate Development and the National Highway Institute, including session records files, Eisenhower Transportation Fellowship Program grant files, Garrett A. Morgan Technology and Transportation Education grant files, transportation education development pilot program grant files, local technical assistance program files, tribal technical assistance program files, and national program review and evaluation files. Permanent policy records, directives and reports are scheduled in other Federal Highway Administration schedules.

20. Department of Transportation, Federal Railroad Administration (N1-399-08-5, 2 items, 2 temporary items). Master file and outputs associated with computer models and expert systems used in the evaluation, scoring, or interpretation of data relating to the American railroad system.

21. Federal Communications Commission, Media Bureau (N1-173-08-8, 2 items, 2 temporary items). Outputs and master file for an electronic information system containing cable price survey data used to publish an annual report on average rates for cable service and equipment.

22. National Aeronautics and Space Administration, Agency-wide (N-255-07-2, 5 items, 5 temporary items). Records relating to criminal investigations and other law enforcement actions, including incident case files, routine case files, and background material.

23. Nuclear Regulatory Commission, Office of Human Resources (N1-431-08-9, 2 items, 2 temporary items). Electronic databases used to store and manage information about the skill sets of the agency's employees.

24. Nuclear Regulatory Commission, Office of Small Business and Civil Rights (N1-431-08-10, 4 items, 4 temporary items). Master file and outputs of an electronic information system used to track the agency's progress toward equal employment opportunity goals.

Dated: June 24, 2008.
Michael J. Kurtz,
Assistant Archivist for Records Services—Washington, DC.

[FR Doc. E8-14776 Filed 6-27-08; 8:45 am]

BILLING CODE 7515-01-P